DEPARTMENT OF DEFENSE

Office of the Secretary

Meeting Notice—Military Justice Review Panel

AGENCY: Department of Defense (DoD).

ACTION: Notice of meeting.

SUMMARY: The DoD is publishing this notice to announce that the following meeting of the Military Justice Review Panel (MJRP) will take place.

DATES: July 16-18, 2024.

ADDRESSES: This meeting will be held in the National Capital Region.

FOR FURTHER INFORMATION CONTACT: Mr. L. Peter Yob, 703-693-3857 (Voice), louis.p.yob.civ@mail.mil (Email). Mailing address is MJRP, One Liberty Center, 875 N Randolph Street, Suite 150, Arlington, Virginia 22203. Information about the Military Justice Review Panel can be found on the website: https://mjrp.osd.mil.

SUPPLEMENTARY INFORMATION: Pursuant to 5521 of the National Defense Authorization Act (NDAA) for Fiscal Year (FY) 2017, as amended by 531(k) of the FY 2018 NDAA, the Secretary of Defense established this panel to conduct independent periodic reviews and assessments of the operation of the Uniform Code of Military Justice (UCMJ), 10 U.S.C. 946, Article 146 (effective January 1, 2019).

Purpose of the Meeting: Pursuant to UCMJ Article 146, the MJRP shall conduct independent periodic reviews and assessments of the operation of the UCMJ. This will be the eleventh meeting held by the MJRP during which the members will work and deliberate on their comprehensive review which will be submitted to Congress at the end of this calendar year. At this meeting the MJRP will conduct closed sessions for MJRP members only.

Dated: July 3, 2024.
Aaron T. Siegel,
Alternate OSD Federal Register Liaison Officer, Department of Defense.

[FR Doc. 2024-15052 Filed 7-8-24; 8:45 am]

BILLING CODE 6001-FR-P